ENVIRONMENTAL PROTECTION AGENCY

[EPA-HQ-OW-2023-0095; FRL-11249-01-OMS]

Agency Information Collection Activities; Submission to the Office of Management and Budget for Review and Approval; Comment Request; Clean Water Act Water Quality Certification (Renewal)

AGENCY: Environmental Protection Agency (EPA).

ACTION: Notice.

SUMMARY: The Environmental Protection Agency (EPA) has submitted an information collection request (ICR), Clean Water Act Water Quality Certification (EPA ICR Number 2603.07, OMB Control Number 2040-0295) to the Office of Management and Budget (OMB) for review and approval in accordance with the Paperwork Reduction Act. This is a proposed extension of the ICR, which is currently approved through July 31, 2023. Public comments were previously requested via the Federal Register on April 5, 2023, during a 60-day comment period. This notice allows for an additional 30 days for public comments.

DATES: Comments may be submitted on or before August 31, 2023.

ADDRESSES: Submit your comments, referencing Docket ID Number EPA-HQ-OW-2023-0095, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Liana Prudencio, Oceans, Wetlands, and Communities Division, Office of Wetlands, Oceans, and Watersheds, (Mail Code 4504T), Environmental Protection Agency, 1200 Pennsylvania Ave. NW, Washington, DC 20460; telephone number: (202) 564-3351; email address: cwa401@epa.gov.

SUPPLEMENTARY INFORMATION: This is a proposed extension of the ICR, which is currently approved through July 31, 2023. An agency may not conduct or sponsor and a person is not required to respond to a collection of information unless it displays a currently valid OMB control number.

Public comments were previously requested via the Federal Register on April 5, 2023 during a 60-day comment period (88 FR 20165). This notice allows for an additional 30 days for public comments. Supporting documents, which explain in detail the information that the EPA will be collecting, are available in the public docket for this ICR. The docket can be viewed online at www.regulations.gov or in person at the EPA Docket Center, WJC West, Mail Code 28221T, 1200 Pennsylvania Ave. NW, Washington, DC 20460. The telephone number for the Docket Center is 202-566-1744. For additional information about EPA's public docket, visit http://www.epa.gov/dockets.

Abstract: This ICR describes the cost and burden associated with 40 CFR part 121, the regulations that implement Clean Water Act (CWA) section 401. Under section 401, a federal agency may not issue a permit or license that may result in any discharge into waters of the United States unless the certifying authority where the discharge would originate issues a section 401 water quality certification verifying that the discharge will comply with certain water quality requirements or waives the certification requirement. Certifying authorities are states, tribes with treatment as a state (TAS) authorization, and in limited circumstances, EPA. CWA section 401 requires project proponents to submit project-specific information to certifying authorities. Certifying authorities may act on project-specific information by either granting, granting with conditions, denying, or waiving section 401 certification. To demonstrate it has acted on the certification request, the certifying authority must provide a decision document to the relevant federal licensing or permitting agency. If the certifying authority fails or refuses to act on a certification request within a reasonable period of time (which shall not exceed one year) after receipt, the requirement to obtain certification is waived. EPA is also responsible for coordinating input from certain neighboring or downstream states and tribes affected by a discharge from a federally licensed or permitted project under section 401(a)(2). Information collected directly collected by EPA under section 401 in support of the section 402 permit program is already captured under an existing ICR (OMB Control Number 2040-0004, EPA ICR Number 0229.22) and therefore is not included in this analysis.

Form numbers: None.

Respondents/affected entities: Project proponents, State, and tribal reviewers (certifying authorities).

Respondent's obligation to respond: Required to obtain 401 certification (33 U.S.C. 1341(a)(1)).

Estimated number of respondents: 154,000 responses from 77,140 respondents annually (total).

Frequency of response: One per federal application.

Total estimated burden: 860,500 hours (per year). Burden is defined at 5 CFR 1320.03(b).

Total estimated cost: $48,000,000 (per year), includes $0 annualized capital or operation and maintenance costs.

Changes in the estimates: There is a decrease of 70,500 annual hours in the total estimated respondent burden, a decrease of 19,979 respondents, and a decrease of 40,000 annual responses compared with the ICR currently approved by OMB. This decrease is due to refinements in how the estimates are calculated in addition to a decrease in the average number of annual licenses and permits issued that are used in the low estimate and a decrease in the high estimate of annual certification requests from incorporating values provided in pre-proposal input letters.

Courtney Kerwin,
Director, Regulatory Support Division.

[FR Doc. 2023-16216 Filed 7-31-23; 8:45 am]

BILLING CODE 6560-50-P